DEPARTMENT OF THE INTERIOR

Bureau of Reclamation

Yakima River Basin Water Storage Feasibility Study; Benton, Yakima, and Kittitas Counties, Washington

AGENCY: Bureau of Reclamation, Interior.

ACTION: Notice of intent to prepare a combined Planning Report and Environmental Impact Statement.

SUMMARY: Pursuant to section 102(2)(C) of the National Environmental Policy Act of 1969, as amended, the Bureau of Reclamation (Reclamation) proposes to prepare a combined Planning Report and Environmental Impact Statement (PR/EIS) on the Yakima River Basin Water Storage Feasibility Study. The Washington Department of Ecology (Ecology) is a joint lead with Reclamation in the preparation of this Environmental Impact Statement which will also be used to comply with requirements of the Washington State Environmental Policy Act (SEPA).

The purpose of Reclamation's Yakima River Basin Water Storage Feasibility Study is to evaluate alternatives that would create additional water storage for the Yakima River basin and assess their potential to supply the water needed for ecosystem aquatic habitat, basin-wide agriculture, and municipal demands. The need for the study is based on the existing finite water supply and limited storage capability of the Yakima River basin in low water years. This finite supply and limited storage capacity do not meet the water supply demands in all years and result in significant adverse impact to the Yakima River basin's economy, which is agriculture-based, and to the basin's aquatic habitat, specifically, anadromous fisheries. The study seeks to identify means of increasing water storage available, including storage of Columbia River water, for purposes of improving anadromous fish habitat and meeting irrigation and municipal water supply needs.

DATES: Two scoping meetings, preceded by open houses, will be held on January 23, 2007, at the following times:

Open Houses: 1 to 2 p.m.; and 6 to 7 p.m.

Scoping Meetings: 2 to 4 p.m.; and 7 to 9 p.m.

Written comments will be accepted through January 31, 2007, for inclusion in the scoping summary document. Requests for sign language interpretation for the hearing impaired should be submitted to David Kaumheimer as indicated under the For Further Information section by January 8, 2007.

ADDRESSES: Meetings will be held at the Yakima Convention Center, 10 North 8th Street, Yakima, WA 98901-2058. The meeting facilities are physically accessible to people with disabilities.

Comments and requests to be added to the mailing list may be submitted to Bureau of Reclamation, Upper Columbia Area Office, Attention: David Kaumheimer, Environmental Programs Manager, 1917 Marsh Road, Yakima, Washington 98901-2058. Comments may also be submitted electronically to storagestudy@pn.usbr.gov.

FOR FURTHER INFORMATION CONTACT: Contact David Kaumheimer, Environmental Programs Manager, Telephone: (509) 575-5848, extension 232. TTY users may dial 711 to obtain a toll free TTY relay. Information on this project can also be found at http://www.usbr.gov/pn/programs/storage_study/index.html.

SUPPLEMENTARY INFORMATION: Reclamation has undertaken this study as a potential means to augment water supplies in the Yakima River Basin for the benefit of anadromous fish, irrigated agriculture, and municipal water supply under the authority of Public Law 108-7, Section 214 which was passed by Congress on February 20, 2003. Public Law 108-7 states:

The Secretary of the Interior, acting through the Bureau of Reclamation, shall conduct a feasibility study of options for additional water storage in the Yakima River Basin, Washington, with emphasis on the feasibility of storage of Columbia River water in the potential Black Rock Reservoir and the benefit of additional storage to endangered and threatened fish, irrigated agriculture, and municipal water supply. There are authorized to be appropriated such sums as may be necessary to carry out this Act.

Ecology will be a joint lead with Reclamation in the preparation of this Environmental Impact Statement. Ecology has indicated that under SEPA they will evaluate a range of alternatives that include both storage, the subject of the Yakima River Basin Water Storage Feasibility Study, and non-storage components. As a result the jointly prepared EIS will provide NEPA coverage for storage alternatives that Reclamation may consider as part of the Yakima River Basin Water Storage Feasibility Study as well as SEPA coverage for a broader range of alternatives that Ecology may consider.

The alternatives being investigated by Reclamation include additional storage of Yakima River water, as well as water exchanges with the Columbia River. The in-basin alternatives would entail diverting excess water flows from the Yakima River after all water rights and fish target flows are met. Previous Yakima River Basin investigations, such as the Yakima River Basin Water Enhancement Program and the Watershed Management Plan for the Yakima River Basin, are being used to develop in-basin water storage alternatives.

The water exchange alternatives would involve new storage and the pumping of water from the Columbia River. The Black Rock Dam and Reservoir alternative would pump 3,500 or 6,000 cfs from above Priest Rapids to a reservoir east of the city of Yakima which would then be delivered to irrigation districts downstream of the city. Deliveries from Black Rock Reservoir would offset existing diversions from the Yakima River. Those foregone diversions would be used to improve flows for anadromous fish and provide additional supplies in drought years to existing irrigators beyond what would otherwise have been available. Water stored as part of the project would not be used to expand irrigation in the Yakima Basin. An alternative which would pump water from the mouth of the Yakima River would involve a storage reservoir in the Yakima Basin to re-regulate irrigation flow releases for the benefit of instream flows and a water exchange to reduce some Yakima River diversions.

Other combinations of storage and pumping of water from the Columbia River for delivery by exchange to the Yakima River Basin may be identified during the public scoping process.

Reclamation plans to conduct public scoping meetings to solicit input on the alternatives to augment water supplies in the Yakima River and impacts associated with those alternatives. Reclamation will summarize comments received during the scoping meetings and letters received during the scoping period, identified under the Dates section, into a scoping summary document which will be provided to those who submitted comments. The scoping summary will also be available to others upon request.

If you wish to comment, you may mail us your comments as indicated under the Addresses section. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, document-able circumstances, this information will be released. We will always make submissions from organizations or businesses, and from individuals identifying themselves as representatives or officials of organizations or businesses, available for public inspection in their entirety.

Kathyrn A. Marshall,
Acting Regional Director, Pacific Northwest Region.

[FR Doc. E6-22386 Filed 12-28-06; 8:45 am]

BILLING CODE 4310-MN-P